DEPARTMENT OF HOMELAND SECURITY

U.S. Customs and Border Protection

Notice of Revocation of Customs Broker's License

AGENCY: U.S. Customs and Border Protection, Department of Homeland Security.

ACTION: Customs broker's license revocation.

SUMMARY: This document provides notice of the revocation of one (1) customs broker's license.

SUPPLEMENTARY INFORMATION: This document provides that, pursuant to section 641 of the Tariff Act of 1930, as amended (19 U.S.C. 1641), and section 111.45(a) of title 19 of the Code of Federal Regulations (19 CFR 111.45(a)), the following customs broker's license and all associated permits are revoked by operation of law.

Company name | License No. | Port of issuance
All Roads Logistics LLC | 28729 | Great Falls.

Dated: October 31, 2014.
Sandra L. Bell,
Deputy Assistant Commissioner, Office of International Trade.

[FR Doc. 2014-26335 Filed 11-4-14; 8:45 am]

BILLING CODE 9111-14-P